DEPARTMENT OF STATE

[Public Notice 7295]

Bureau of Educational and Cultural Affairs (ECA) Request for Grant Proposals: FY2012 Humphrey Fellowship Program

Announcement Type: New Cooperative Agreement.

Funding Opportunity Number: ECA/A/S/U-12-01.

Catalog of Federal Domestic Assistance Number: 19.010.

Application Deadline: April 4, 2011.

Executive Summary: The U.S. Department of State's Bureau of Educational and Cultural Affairs (ECA) announces an open competition to assist in the administration of the FY2012 Hubert H. Humphrey Fellowship Program. Public and private non-profit organizations meeting the provisions described in Internal Revenue Code section 26 U.S.C. 501(c)(3) may submit proposals to cooperate with the Bureau in the administration and implementation of the FY2012 Humphrey Program. The final amount that will be available in FY2012 to fund the Humphrey Program has not yet been determined. Applicants are asked to prepare a budget not to exceed $13,500,000 for program and administrative costs. Please indicate the number of participants who can be accommodated based on detailed calculations of program and administrative costs. For more information about calculating budget requests, see paragraph IV.3.e.1 of this document. Pending the availability of FY2012 funds, the Agreement should begin on October 1, 2011 and should expire on September 30, 2014.

I. Funding Opportunity Description

Authority

Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program above is provided through legislation.

Purpose

Overview: The Hubert H. Humphrey Fellowship Program was established in 1978. The goal of the Humphrey Program is to strengthen U.S. interaction with professionals from developing and emerging countries who are well placed to address their countries' development needs in key areas including public health, sustainable growth, and democratic institution-building, while providing participants with opportunities to develop professional expertise and leadership skills for public service in their countries. Each year the Humphrey Program brings accomplished professionals from North Africa and the Middle East, Sub-Saharan Africa, East Asia and the Pacific, South and Central Asia, Latin America, the Caribbean, Eastern Europe, and Eurasia to the U.S. for a ten-month stay combining non-degree graduate study, leadership training, and professional development. Candidates for the Humphrey Program are nominated by U.S. Embassies or binational Fulbright Commissions, based on the candidates' professional backgrounds, academic qualifications, and leadership potential. By providing these emerging leaders with opportunities to understand U.S. society and culture and to participate with U.S. colleagues in current approaches to the fields in which they work, the Humphrey Program provides a basis for on-going cooperation between U.S. citizens and their professional counterparts in other countries.

Fellowships are granted competitively to candidates who have a public service orientation, a commitment to their countries' development, and clear leadership potential. Candidates are recruited from both the public and the private sectors, including non-governmental organizations, in areas that include the following: Agricultural and rural development; communications/journalism; economic development; educational administration, planning, and policy; finance and banking; higher education administration; HIV/AIDS policy, prevention, and treatment; human resource management; law and human rights; natural resource management, environmental policy, and climate change; public health policy and management; public policy analysis and public administration; substance abuse education, treatment, and prevention; teaching of English as a foreign language; technology policy and management; trafficking in persons policy and prevention; and urban and regional planning. Humphrey Fellows typically range in age from the late 20's to the mid-50's; are professionals in leadership positions who have the requisite experience, skills, and commitment to public service to advance in their professions; have a minimum of five years of professional experience; and have an interest in policy issues. English speaking ability is required; to enable the Program to accommodate qualified candidates from under-represented populations, up to 6 months of intensive English instruction is offered in the U.S. to selected Fellows prior to the start of the academic-year program. Outreach to under-represented populations is a major priority of the Bureau, and in recent years more than half of the incoming Humphrey Fellows have undertaken some pre-academic English training.

Seventeen universities are currently serving as Humphrey host institutions: American University (law and human rights); Arizona State University (journalism); Boston University (finance and banking); Cornell University (agricultural and rural development and natural resource management, environmental policy, and climate change); Emory University (public health); Johns Hopkins University (substance abuse prevention and treatment); the Massachusetts Institute of Technology (urban/regional planning); Michigan State University (economic development); Pennsylvania State University (education); Syracuse University (public administration); Tulane University (public health); the University of California, Davis (agricultural and rural development and natural resource management, environmental policy, and climate change); the University of Maryland, College Park (journalism); the University of Minnesota (two cohorts, one in law and human rights and one in public administration); the University of Washington (public administration); Vanderbilt University (education); and Virginia Commonwealth University (substance abuse prevention and treatment). These institutions are selected to host groups of Humphrey Fellows through a competitive process coordinated by the recipient in consultation with the Bureau. Fellows are placed at one of these Humphrey host institutions in multi-regional professional clusters of approximately ten to fifteen Fellows (e.g., twelve Fellows in law and human rights from twelve different countries would be placed at one university that has applied and been approved to host Fellows in this field). Each field of study is openly competed every five years, a cycle which results in one or two fields of study being openly competed in any given year. The schedule for host campus competitions is provided in the Project Objectives, Goals, and Implementation (POGI) document for this solicitation. The recipient will initially be expected to establish cooperative arrangements with the current host universities for one year. However, proposals should include a strategy for evaluating host campus performance over the course of the year and for organizing and administering a competition to obtain and review applications from a diverse range of institutions to serve as host universities in the fields of study scheduled to be competed in FY2012.

To provide a more diverse U.S. experience for the Humphrey Fellows and to engage a more diverse range of communities in the United States in international exchange programs sponsored by the Department of State, “associate campuses” that might not otherwise have the capacity for graduate-level international programming (including community colleges and rural or minority-serving institutions) now cooperate with Humphrey host universities to engage Humphrey Fellows substantively in projects and events at the associate campuses. The plans for host university competitions should include a requirement that all applicant universities include an associate campus component in their proposals.

Proposals must conform with the Bureau requirements and guidelines outlined in the Solicitation Package, which includes this document (the Request for Grant Proposals, or RFGP); the Project Objectives, Goals and Implementation (POGI); and the Proposal Submission Instructions (PSI).

The Bureau will work cooperatively and closely with the recipient of this Cooperative Agreement and will maintain a regular dialogue on administrative and program issues and questions as they arise over the duration of the award.

Contingent upon satisfactory performance based on annual reviews and availability of funds in subsequent fiscal years, the Bureau intends to renew this award each year for four additional years, before openly competing it again.

Guidelines

Program Planning and Implementation

Applicant organizations are requested to submit a narrative outlining a comprehensive strategy for the administration and program implementation of the Hubert H. Humphrey Fellowship Program including preparation of participant recruitment guidelines, coordination with U.S. Embassies and binational Fulbright Commissions, selection and placement of participants at host universities, monitoring the Fellows' academic and professional programs, and alumni support. In addition, applicant organizations should outline a plan for a range of enhancement activities that will reinforce one another and build on the core academic and professional program. These activities must include, but are not limited to, a fall program-wide seminar in Washington, DC, professional enhancement workshops on specific topics for those Fellows who share an interest in the topics (for example, sustainable use of resources, climate change, food security, international finance, or conflict resolution), and an end-of-year program-wide workshop focusing on issues related to re-entering the home country environment and to implementing the skills and knowledge gained during the Humphrey year. The comprehensive program strategy should reflect a vision for the Program as a whole, interpreting the goals of the Humphrey Program with creativity and providing innovative ideas and recommendations for the Program. The strategy should include a description of how the various components of the Program will be integrated to build upon and reinforce one another. For example, workshops or seminars should build on the campus-based academic and professional program in support of the Humphrey Program's goal of enabling the Fellows to develop leadership skills in public service. Applicants should propose a theme for the program-wide seminar and identify by name potential speakers who will stimulate the Fellows to engage in discussions with the speakers and one another in ways that are consistent with the seminar's objectives and the Program's goals.

Applicants should describe how they will provide periodic electronic data uploads for the Bureau's participant database, and how they will ensure that these updates are accurate. Please describe a strategy for maintaining a Humphrey Program Web site and for updating it periodically so that Fellows' achievements and statements, listings of eligible countries, Embassy and Fulbright Commission contacts, and the listing of host universities are current and complete. Applicants should also be prepared to collaborate with the Bureau to create and maintain a Humphrey-specific section of the ECA alumni Web site and help promote this Web site to alumni as well as current participants.

Pending availability of funds, this award should begin on October 1, 2011 and will run through September 30, 2014. This award would include both the administrative and program portions of the Hubert H. Humphrey Fellowship Program such as: The selection and placement of the 2012-2013 class of Fellows and the monitoring of their programs; the administration of creative programs of follow-up support and coordination with Humphrey alumni from all classes in coordination with the Bureau's comprehensive alumni outreach efforts; and the administration and implementation of enhancement activities for the 2012-2013 class such as workshops, seminars, or other activities to be proposed by the applicant organizations.

Funding for administrative expenses under this award, such as salaries and benefits, staff travel, office supplies, postage, communications, and indirect costs will cover only the period October 1, 2011 through September 30, 2012.

Funding for program expenses will cover programmatic needs for the 2012-2013 class of Humphrey Fellows throughout the entire Agreement period (October 1, 2011 through September 30, 2014) according to the work plan approved in the final Cooperative Agreement.

Alumni activities should address the following ECA alumni program goals: To foster U.S. diplomatic mission engagement with exchange alumni; to foster alumni implementation and teaching of the concepts they explored during their exchange programs; to provide training that will foster the ability of alumni to share and implement these concepts; and to participate in long-term evaluations of the Humphrey Program. Alumni programming may include, but is not limited to, activities such as workshops allowing alumni to share their knowledge with the public, including youth; activities fostering community service, or small grants competitions.

A separate Agreement with the current recipient will cover administrative implementation of the program for academic year 2011-2012 Humphrey Fellows until the conclusion of their U.S. program in the late spring of 2012. For the FY2012 Cooperative Agreement, which this announcement covers, the recipient will have responsibility for selection, placement, and program implementation for the academic year 2012-2013 Fellows and for alumni programming for all program alumni. In FY2012 and subsequent years, if the award is renewed, the recipient would additionally be responsible for overseeing the programs of the Fellows who will be in the U.S. in subsequent years (for example, the programs of academic year 2013-2014 Fellows in FY2013).

Please refer to the POGI for specific program and budget guidelines.

In a Cooperative Agreement, ECA/A/S/U is substantially involved in program activities above and beyond routine grant monitoring. ECA/A/S/U will consult frequently with the recipient on details of program implementation as illustrated in the list below of items for which program office consultation and approval is required. ECA/A/S/U activities and responsibilities for this program are as follows:

• Specific plans for enhancement activities such as workshops, seminars, and retreats including themes, agendas, and speakers;

• Texts for publication;

• Candidate Review Committee members;

• Co-funding initiatives;

• Alumni conference plans and other alumni support initiatives;

• Recommendations of the host campus selection committee;

• Associate host campus partnerships;

• Country eligibility and nomination quotas;

• Formulation of program policy;

• Assignment of recommended candidates to principal or alternate status;

• Program evaluation activities.

II. Award Information

Type of Award: Cooperative Agreement. ECA's level of involvement in this program is listed under number I above.

Fiscal Year Funds: 2012.

Approximate Total Funding: $13.5 million.

Approximate Number of Awards: 1.

Approximate Average Award: Pending availability of funds, $13.5 million.

Anticipated Award Date: Pending availability of funds, October 1, 2011.

Anticipated Project Completion Date: September 30, 2014.

Additional Information

Pending successful implementation of this program and the availability of funds in subsequent fiscal years, it is ECA's intent to renew this award each year for four additional fiscal years, before openly competing it again.

(III.) Eligibility Information:

III.1. Eligible applicants: Applications may be submitted by public and private non-profit organizations meeting the provisions described in Internal Revenue Code section 26 U.S.C. 501(c)(3).

III.2. Cost Sharing or Matching Funds: There is no minimum or maximum percentage required for this competition. However, the Bureau encourages applicants to provide maximum levels of cost sharing and funding in support of its programs.

When cost sharing is offered, it is understood and agreed that the applicant must provide the amount of cost sharing as stipulated in its proposal and later included in an approved grant agreement. Cost sharing may be in the form of allowable direct or indirect costs. For accountability, you must maintain written records to support all costs which are claimed as your contribution, as well as costs to be paid by the Federal government. Such records are subject to audit. The basis for determining the value of cash and in-kind contributions must be in accordance with OMB Circular A-110, (Revised), Subpart C.23—Cost Sharing and Matching. In the event you do not provide the minimum amount of cost sharing as stipulated in the approved budget, ECA's contribution will be reduced in like proportion.

III.3. Other Eligibility Requirements:

(a.) Bureau grant guidelines require that organizations with less than four years experience in conducting international exchanges be limited to $60,000 in Bureau funding. ECA anticipates issuing one award, in an amount up to $13.5 million to support program and administrative costs required to implement this exchange program. Therefore, organizations with less than four years experience in conducting international exchanges are ineligible to apply under this competition. The Bureau encourages applicants to provide maximum levels of cost sharing and funding in support of its programs.

(IV.) Application and Submission Information:

Note: Please read the complete announcement before sending inquiries or submitting proposals. Once the RFGP deadline has passed, Bureau staff may not discuss this competition with applicants until the proposal review process has been completed.

IV.1. Contact Information to Request an Application Package: Please contact the Humphrey Fellowships and Institutional Linkages Branch, ECA/A/S/U, SA-5, 4th Floor, U.S. Department of State, 2200 C Street, NW., Washington, DC 20037, telephone: (202)632-6331, fax (202)632-9479, e-mail: pschelp@ state.gov to request a Solicitation Package. Please refer to the Funding Opportunity Number ECA/A/S/U-12-01 when making your request.

Alternatively, an electronic application package may be obtained from grants.gov. Please see section IV.3f for further information.

The Solicitation Package contains the Proposal Submission Instruction (PSI) document which consists of required application forms, and standard guidelines for proposal preparation.

It also contains the Project Objectives, Goals and Implementation (POGI) document, which provides specific information, award criteria and budget instructions tailored to this competition.

Please specify Bureau Program Officer Paul Schelp and refer to Funding Opportunity Number ECA/A/S/U-12-01 on all inquiries and correspondence.

IV.2. To Download a Solicitation Package Via Internet: The entire Solicitation Package may be downloaded from the Bureau's Web site at http://exchanges.state.gov/grants/open2.html, or from the Grants.gov Web site at http://www.grants.gov.

Please read all information before downloading.

IV.3. Content and Form of Submission: Applicants must follow all instructions in the Solicitation Package. The application should be submitted per the instructions under IV.3f. “Application Deadline and Methods of Submission” section below.

IV.3a. You are required to have a Dun and Bradstreet Data Universal Numbering System (DUNS) number to apply for a grant or cooperative agreement from the U.S. Government. This number is a nine-digit identification number, which uniquely identifies business entities. Obtaining a DUNS number is easy and there is no charge. To obtain a DUNS number, access http://www.dunandbradstreet.com or call 1-866-705-5711. Please ensure that your DUNS number is included in the appropriate box of the SF—424 which is part of the formal application package.

IV.3b. All proposals must contain an executive summary, proposal narrative and budget.

Please Refer to the Solicitation Package. It contains the mandatory Proposal Submission Instructions (PSI) document and the Project Objectives, Goals and Implementation (POGI) document for additional formatting and technical requirements.

IV.3c. All federal award recipients and sub-recipients must maintain current registrations in the Central Contractor Registration (CCR) database and have a Dun and Bradstreet Data Universal Numbering System (DUNS) number. Recipients and sub-recipients must maintain accurate and up-to-date information in the CCR until all program and financial activity and reporting have been completed. All entities must review and update the information at least annually after the initial registration and more frequently if required information changes or another award is granted.

You must have nonprofit status with the IRS at the time of application. Please note: Effective January 7, 2009, all applicants for ECA federal assistance awards must include in their application the names of directors and/or senior executives (current officers, trustees, and key employees, regardless of amount of compensation). In fulfilling this requirement, applicants must submit information in one of the following ways:

(1) Those who file Internal Revenue Service Form 990, “Return of Organization Exempt From Income Tax,” must include a copy of relevant portions of this form.

(2) Those who do not file IRS Form 990 must submit information above in the format of their choice.

In addition to final program reporting requirements, award recipients will also be required to submit a one-page document, derived from their program reports, listing and describing their grant activities. For award recipients, the names of directors and/or senior executives (current officers, trustees, and key employees), as well as the one- page description of grant activities, will be transmitted by the State Department to OMB, along with other information required by the Federal Funding Accountability and Transparency Act (FFATA), and will be made available to the public by the Office of Management and Budget on its USASpending.gov Web site as part of ECA's FFATA reporting requirements.

If your organization is a private nonprofit which has not received a grant or cooperative agreement from ECA in the past three years, or if your organization received nonprofit status from the IRS within the past four years, you must submit the necessary documentation to verify nonprofit status as directed in the PSI document. Failure to do so will cause your proposal to be declared technically ineligible.

IV.3d. Please take into consideration the following information when preparing your proposal narrative:

IV.3d.1. Adherence to all Regulations Governing the J Visa. The Bureau of Educational and Cultural Affairs places critically important emphasis on the security and proper administration of the Exchange Visitor (J visa) Programs and adherence by award recipients and sponsors to all regulations governing the J visa. Therefore, proposals should demonstrate the applicant's capacity to meet all requirements governing the administration of the Exchange Visitor Programs as set forth in 22 CFR 62, including the oversight of Responsible Officers and Alternate Responsible Officers, screening and selection of program participants, provision of pre-arrival information and orientation to participants, monitoring of participants, proper maintenance and security of forms, record-keeping, reporting and other requirements.

Employees of the Grantee will be named Alternate Responsible Officers and will be responsible for issuing DS-2019 forms to participants in this program and performing all actions to comply with the Student and Exchange Visitor Information System (SEVIS).

A copy of the complete regulations governing the administration of Exchange Visitor (J) programs is available at http://exchanges.state.gov or from: United States Department of State, Office of Exchange Coordination and Designation, Office of Designation, ECA/EC/D, SA-5, Floor C2, Department of State, Washington, DC 20037.

Please refer to Solicitation Package for further information.

IV.3d.2. Diversity, Freedom and Democracy Guidelines. Pursuant to the Bureau's authorizing legislation, programs must maintain a non-political character and should be balanced and representative of the diversity of American political, social, and cultural life. “Diversity” should be interpreted in the broadest sense and encompass differences including, but not limited to ethnicity, race, gender, religion, geographic location, socio-economic status, and disabilities. Applicants are strongly encouraged to adhere to the advancement of this principle both in program administration and in program content. Please refer to the review criteria under the “Support for Diversity” section for specific suggestions on incorporating diversity into your proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

IV.3d.3. Program Monitoring and Evaluation. Proposals must include a plan to monitor and evaluate the project's success, both as the activities unfold and at the end of the program. The Bureau recommends that your proposal include a draft survey questionnaire or other technique plus a description of a methodology to use to link outcomes to original project objectives. The Bureau expects that the recipient organization will track participants or partners and be able to respond to key evaluation questions, including satisfaction with the program, learning as a result of the program, changes in behavior as a result of the program, and effects of the program on institutions (institutions in which participants work or partner institutions). The evaluation plan should include indicators that measure gains in mutual understanding as well as substantive knowledge.

Successful monitoring and evaluation depend heavily on setting clear goals and outcomes at the outset of a program. Your evaluation plan should include a description of your project's objectives, your anticipated project outcomes, and how and when you intend to measure these outcomes (performance indicators). The more that outcomes are “smart” (specific, measurable, attainable, results-oriented, and placed in a reasonable time frame), the easier it will be to conduct the evaluation. You should also show how your project objectives link to the goals of the program described in this RFGP.

Your monitoring and evaluation plan should clearly distinguish between program outputs and outcomes. Outputs are products and services delivered, often stated as an amount. Output information is important to show the scope or size of project activities, but it cannot substitute for information about progress towards outcomes or the results achieved. Examples of outputs include the number of people trained or the number of seminars conducted. Outcomes, in contrast, represent specific results a project is intended to achieve and is usually measured as an extent of change. Findings on outputs and outcomes should both be reported, but the focus should be on outcomes.

We encourage you to assess the following four levels of outcomes, as they relate to the program goals set out in the RFGP (listed here in increasing order of importance):

1. Participant satisfaction with the program and exchange experience.

2. Participant learning, such as increased knowledge, aptitude, skills, and changed understanding and attitude. Learning includes both substantive (subject-specific) learning and mutual understanding.

3. Participant behavior, concrete actions to apply knowledge in work or community; greater participation and responsibility in civic organizations; interpretation and explanation of experiences and new knowledge gained; continued contacts between participants, community members, and others.

4. Institutional changes, such as increased collaboration and partnerships, policy reforms, new programming, and organizational improvements.

Please note: Consideration should be given to the appropriate timing of data collection for each level of outcome. For example, satisfaction is usually captured as a short-term outcome, whereas behavior and institutional changes are normally considered longer-term outcomes.

Overall, the quality of your monitoring and evaluation plan will be judged on how well it (1) specifies intended outcomes; (2) gives clear descriptions of how each outcome will be measured; (3) identifies when particular outcomes will be measured; and (4) provides a clear description of the data collection strategies for each outcome (i.e., surveys, interviews, or focus groups). (Please note that evaluation plans that deal only with the first level of outcomes [satisfaction] will be deemed less competitive under the present evaluation criteria.)

Recipient organizations will be required to provide reports analyzing their evaluation findings to the Bureau in their regular program reports. All data collected, including survey responses and contact information, must be maintained for a minimum of three years and provided to the Bureau upon request.

IV.3.d.4. Describe your plans for staffing: Please provide a staffing plan which outlines the responsibilities of each staff person and explains which staff member will be accountable for each program responsibility. Wherever possible please streamline administrative processes.

IV.3e. Please take the following information into consideration when preparing your budget:

IV.3.e.1. Applicants must submit SF-424A—“Budget Information—Non-Construction Programs” along with a comprehensive budget for the entire program. There must be a summary budget as well as breakdowns reflecting both administrative and program budgets. Applicants should provide separate sub-budgets for each program component, phase, location, or activity to provide clarification.

The summary and detailed administrative and program budgets should be accompanied by a narrative which provides a brief rationale for each line item including a methodology for estimating an appropriate average maintenance allowance levels and tuition costs for the 2012-2013 class of Humphrey Fellows and the number of participants that can be accommodated at the proposed funding level. The total administrative costs funded by the Bureau must be reasonable and appropriate.

IV.3.e.2. Allowable costs for the program and additional budget guidance are outlined in detail in the POGI document.

Please refer to the Solicitation Package for complete budget guidelines and formatting instructions.

IV.3f. Application Deadline and Methods of Submission:

Application Deadline Date: Monday, April 4, 2011.

Reference Number: ECA/A/S/U-12-01.

Methods of Submission: Applications may be submitted in one of two ways:

(1.) In hard-copy, via a nationally recognized overnight delivery service (i.e., Federal Express, UPS, Airborne Express, or U.S. Postal Service Express Overnight Mail, etc.), or

(2.) Electronically through http://www.grants.gov.

Along with the Project Title, all applicants must enter the above Reference Number in Box 11 on the SF-424 contained in the mandatory Proposal Submission Instructions (PSI) of the solicitation document.

IV.3f.1. Submitting Printed Applications. Applications must be shipped no later than the above deadline. Delivery services used by applicants must have in-place, centralized shipping identification and tracking systems that may be accessed via the Internet and delivery people who are identifiable by commonly recognized uniforms and delivery vehicles. Proposals shipped on or before the above deadline but received at ECA more than seven days after the deadline will be ineligible for further consideration under this competition. Proposals shipped after the established deadlines are ineligible for consideration under this competition. ECA will not notify you upon receipt of application. It is each applicant's responsibility to ensure that each package is marked with a legible tracking number and to monitor/confirm delivery to ECA via the Internet. Delivery of proposal packages may not be made via local courier service or in person for this competition. Faxed documents will not be accepted at any time. Only proposals submitted as stated above will be considered.

Important note: When preparing your submission please make sure to include one extra copy of the completed SF-424 form and place it in an envelope addressed to “ECA/EX/PM”.

The original and seven copies of the application should be sent to: Program Management Division, ECA-IIP/EX/PM, Ref.: ECA/A/S/U-12-01, SA-5, Floor 4, Department of State, 2200 C Street, NW., Washington, DC 20037.

IV.3f.2—Submitting Electronic Applications. Applicants have the option of submitting proposals electronically through Grants.gov (http://www.grants.gov). Complete solicitation packages are available at Grants.gov in the “Find” portion of the system.

Please Note: ECA bears no responsibility for applicant timeliness of submission or data errors resulting from transmission or conversion processes for proposals submitted via Grants.gov.

Please follow the instructions available in the “Get Started” portion of the site (http://www.grants.gov/GetStarted).

Several of the steps in the Grants.gov registration process could take several weeks. Therefore, applicants should check with appropriate staff within their organizations immediately after reviewing this RFGP to confirm or determine their registration status with Grants.gov.

Once registered, the amount of time it can take to upload an application will vary depending on a variety of factors including the size of the application and the speed of your internet connection. In addition, validation of an electronic submission via Grants.gov can take up to two business days.

Therefore, we strongly recommend that you not wait until the application deadline to begin the submission process through Grants.gov.

The Grants.gov Web site includes extensive information on all phases/aspects of the Grants.gov process, including an extensive section on frequently asked questions, located under the “For Applicants” section of the Web site. ECA strongly recommends that all potential applicants review thoroughly the Grants.gov Web site, well in advance of submitting a proposal through the Grants.gov system. ECA bears no responsibility for data errors resulting from transmission or conversion processes.

Direct all questions regarding Grants.gov registration and submission to: Grants.gov Customer Support, Contact Center Phone: 800-518-4726, Business Hours: Monday-Friday, 7 am-9 pm Eastern Time, E-mail: support@grants.gov.

Applicants have until midnight Washington, DC time of the closing date to ensure that their entire application has been uploaded to the Grants.gov site. There are no exceptions to the above deadline. Applications uploaded to the site after midnight of the application deadline date will be automatically rejected by the grants.gov system, and will be technically ineligible.

Please refer to the Grants.gov Web site, for definitions of various “application statuses” and the difference between a submission receipt and a submission validation. Applicants will receive a validation e-mail from grants.gov upon the successful submission of an application. Again, validation of an electronic submission via Grants.gov can take up to two business days. Therefore, we strongly recommend that you not wait until the application deadline to begin the submission process through Grants.gov. ECA will not notify you upon receipt of electronic applications.

It is the responsibility of all applicants submitting proposals via the Grants.gov Web portal to ensure that proposals have been received by Grants.gov in their entirety, and ECA bears no responsibility for data errors resulting from transmission or conversion processes.

IV.3g. Intergovernmental Review of Applications: Executive Order 12372 does not apply to this program.

V. Application Review Information

V.1. Review Process

The Bureau will review all proposals for technical eligibility. Proposals will be deemed ineligible if they do not fully adhere to the guidelines stated herein and in the Solicitation Package. All eligible proposals will be reviewed by the program office. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for cooperative agreements resides with the Bureau's Grants Officer.

Review Criteria

Technically eligible applications will be competitively reviewed according to the criteria stated below. These criteria are not rank ordered and all carry equal weight in the proposal evaluation:

1. Quality of the program idea: Proposals should exhibit originality, substance, precision, and relevance to the Bureau's mission as well as to the objectives of the Humphrey Fellowship Program.

2. Program planning: Detailed agenda and relevant work plan should demonstrate substantive undertakings and logistical capacity. Agenda and plan should adhere to the program overview and guidelines described above. Objectives should be reasonable, feasible, and flexible.

3. Multiplier effect/impact: The proposed program should maximize the Humphrey Program's potential to promote mutual understanding at the individual, community, and professional levels and to encourage long-term individual and institutional linkages.

4. Support of diversity: Proposals should demonstrate substantive support of the Bureau's policy on diversity. Achievable and relevant features should be cited in both program administration (selection of participants, program venue and program evaluation) and program content (orientation and wrap-up sessions, program meetings, resource materials and follow-up activities).

5. Institutional capacity and record: Proposed personnel and institutional resources should be adequate and appropriate to achieve program goals. Proposals should demonstrate an institutional record of successful exchange programs, including responsible fiscal management and full compliance with all reporting requirements for past Bureau awards (grants or cooperative agreements) as determined by Bureau Grants Staff. The Bureau will consider the past performance of prior recipients and the demonstrated potential of new applicants.

6. Follow-on and alumni activities: Proposals should provide a plan for continued follow-on activity (both with and without Bureau support) ensuring that the Humphrey Fellowship year is not an isolated event. Activities should include tracking and maintaining updated lists of all alumni and facilitating follow-up activities for alumni.

7. Project evaluation: Proposals should include a plan to evaluate the activity's success, both as the activities unfold and at the end of the program. A draft survey questionnaire or other technique plus description of a methodology to use to link outcomes to original project objectives is recommended. Successful applicants will be expected to submit intermediate reports after major project components are concluded.

8. Cost-effectiveness and cost-sharing: The overhead and administrative components of the proposal, including salaries and honoraria, should be kept as low as possible. All other items should be necessary and appropriate. Proposals should maximize cost-sharing through other private sector support as well as institutional direct funding contributions.

(VI.) Award Administration Information:

VI.1 Award Notices:

Final awards cannot be made until funds have been appropriated by Congress, allocated and committed through internal Bureau procedures. Successful applicants will receive a Federal Assistance Award (FAA) from the Bureau's Grants Office. The FAA and the original proposal with subsequent modifications (if applicable) shall be the only binding authorizing document between the recipient and the U.S. Government. The FAA will be signed by an authorized Grants Officer, and mailed to the recipient's responsible officer identified in the application.

Unsuccessful applicants will receive notification of the results of the application review from the ECA program office coordinating this competition.

VI.2. Administrative and National Policy Requirements:

Terms and Conditions for the Administration of ECA agreements include the following:

Office of Management and Budget Circular A-122, “Cost Principles for Nonprofit Organizations”

Office of Management and Budget Circular A-21, “Cost Principles for Educational Institutions”

OMB Circular A-87, “Cost Principles for State, Local and Indian Governments”

OMB Circular No. A-110 (Revised), Uniform Administrative Requirements for Grants and Agreements with Institutions of Higher Education, Hospitals, and other Nonprofit Organizations

OMB Circular No. A-102, Uniform Administrative Requirements for Grants-in-Aid to State and Local Governments

OMB Circular No. A-133, Audits of States, Local Government, and Non-profit Organizations

Please reference the following Web sites for additional information:

http://www.whitehouse.gov/omb/grants

http://fa.statebuy.state.gov

VI.3. Reporting Requirements: You must provide ECA with a hard copy original plus one copy of the following reports:

(1) A final comprehensive program and financial report no more than 90 days after the expiration of the award;

(2) A concise, one-page final program report summarizing program outcomes no more than 90 days after the expiration of the award. This one-page report will be transmitted to OMB, and be made available to the public via OMB's USAspending.gov Web site—as part of ECA's Federal Funding Accountability and Transparency Act (FFATA) reporting requirements.

(3) A SF-PPR, “Performance Progress Report” Cover Sheet with all program reports.

(4) Annual program reports and quarterly financial reports.

Award recipients will be required to provide reports analyzing their evaluation findings to the Bureau in their regular program reports. (Please refer to IV. Application and Submission Instructions (IV.3.d.3) above for Program Monitoring and Evaluation information.

All data collected, including survey responses and contact information, must be maintained for a minimum of three years and provided to the Bureau upon request.

All reports must be sent to the ECA Grants Officer and ECA Program Officer listed in the final assistance award document.

VII. Agency Contacts

For questions about this announcement, contact: Paul Schelp, U.S. Department of State, Office of Global Educational Programs, SA-5, 4th Floor, ECA/A/S/U, 2200 C Street, NW., Washington, DC 20037, telephone: 202-632-6331, fax 202-632-9479, pschelp@state.gov.

All correspondence with the Bureau concerning this RFGP should reference the above title and reference number ECA/A/S/U-12-01.

Please read the complete announcement before sending inquiries or submitting proposals. Once the RFGP deadline has passed, Bureau staff may not discuss this competition with applicants until the proposal review process has been completed.

VIII. Other Information

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements per section VI.3 above.

Dated: January 4, 2011.
Ann Stock,
Assistant Secretary for Educational and Cultural Affairs, U.S. Department of State.

[FR Doc. 2011-499 Filed 1-12-11; 8:45 am]

BILLING CODE 4710-05-P